DEPARTMENT OF DEFENSE

Department of the Navy

[Docket ID: USN-2024-HQ-0009]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Upstream risk factors for behavioral health and suicide in military personnel: An examination of social determinants of health; OMB Control Number 0703-SDOH.

Type of Request: New collection.

Baseline Survey

Number of Respondents: 1,088.

Responses per Respondent: 1.

Annual Responses: 1,088.

Average Burden per Response: 15 minutes.

Annual Burden Hours: 272.

Follow-up Survey

Number of Respondents: 599.

Responses per Respondent: 1.

Annual Responses: 599.

Average Burden per Response: 15 minutes.

Annual Burden Hours: 150.

Total

Number of Respondents: 1,088.

Annual Responses: 1,687.

Annual Burden Hours: 422.

Needs and Uses: Many service members face adverse social determinants of health (SDOH), such as financial, housing, and food insecurity, isolation or distance from others, and social stressors such as racism and discrimination. Exposure to adverse SDOH may place service members at higher risk for behavioral health symptoms and/or suicidality. This study will develop and administer a cross-cutting, comprehensive assessment of upstream risk factors (i.e., SDOH) for behavioral health issues and suicide among Sailors and Marines to determine the relationship between social risk factors and future behavioral health issues in this population. We will also develop procedures for linking Sailors and Marines to appropriate services and programs based on their reported social and behavioral health needs.

Affected Public: Individuals or households.

Frequency: Twice (Baseline and 6-month follow-up).

Respondent's Obligation: Voluntary.

DOD Clearance Officer: Mr. Reginald Lucas.

Dated: January 3, 2025.
Aaron T. Siegel,
Alternate OSD Federal Register Liaison Officer, Department of Defense.

[FR Doc. 2025-00283 Filed 1-8-25; 8:45 am]

BILLING CODE 6001-FR-P